DEPARTMENT OF JUSTICE

Antitrust Division

Notice Pursuant to the National Cooperative Research and Production Act of 1993—Open SystemC Initiative

Notice is hereby given that, on December 11, 2007, pursuant to Section 6(a) of the National Cooperative Research and Production Act of 1993, 15 U.S.C. 4301 et seq. (“the Act”), Open SystemC Initiative (“OSCI”) has filed written notifications simultaneously with the Attorney General and the Federal Trade Commission disclosing changes in its membership. The notifications were filed for the purpose of extending the Act's provisions limiting the recovery of antitrust plaintiffs to actual damages under specified circumstances. Specifically, CISC Semiconductor Design + Consulting GmbH, Klagenfurt, AUSTRIA; and Ecole Polytechnique Federale de Lausanne, Lausanne, SWITZERLAND have been added as parties to this venture. Also, Celoxica, Ltd., Oxford, UNITED KINGDOM; Denali Software, Inc., Palo Alto, CA; Freescale Semiconductor, Inc., Herzalia, ISRAEL; SpiraTech Ltd., Manchester, UNITED KINGDOM; and Tenison Technology EDA Ltd., Cambridge, UNITED KINGDOM have withdrawn as parties to this venture.

No other changes have been made in either the membership or planned activity of the group research project. Membership in this group research project remains open, and OSCI intends to file additional written notifications disclosing all changes in membership.

On October 9, 2001, OSCI filed its original notification pursuant to Section 6(a) of the Act. The Department of Justice published a notice in the Federal Register pursuant to Section 6(b) of the Act on January 3, 2002 (67 FR 350).

The last notification was filed with the Department on June 21, 2007. A notice was published in the Federal Register pursuant to Section 6(b) of the Act on September 11, 2007 (72 FR 51839).

Patricia A. Brink,
Deputy Director of Operations, Antitrust Division.

[FR Doc. 08-344 Filed 1-25-08; 8:45 am]

BILLING CODE 4410-11-M